DEPARTMENT OF TRANSPORTATION

Federal Aviation Administration

14 CFR Part 39

[Docket No. FAA-2013-1065; Directorate Identifier 2011-NM-230-AD]

RIN 2120-AA64

Airworthiness Directives; Bombardier, Inc. Airplanes

AGENCY: Federal Aviation Administration (FAA), DOT.

ACTION: Notice of proposed rulemaking (NPRM).

SUMMARY: We propose to supersede an existing airworthiness directive (AD) that applies to certain Bombardier, Inc. Model CL-600-1A11 (CL-600), CL-600-2A12 (CL-601), and CL-600-2B16 (CL-601-3A, CL-601-3R, and CL-604 Variants) airplanes. The existing AD currently requires operators to assign serial numbers or part numbers to certain landing gear parts; and to establish the number of landings on the parts, if necessary. The existing AD also requires operators to revise the Airworthiness Limitations Section (ALS) of the Instructions for Continued Airworthiness (ICA) to reflect the new life limits of the landing gear parts. Since we issued that AD, additional landing gear parts have been identified that need serialization. This proposed AD would add airplanes to the applicability; require operators to assign serial numbers or part numbers to certain additional landing gear parts, to establish the number of landings on the parts, if necessary; and record in all required airplane technical records and manuals the new part numbers, serial numbers, and landings assigned to these parts. We are proposing this AD to prevent life-limited landing gear parts from being used beyond their safe-life limits, which could lead to collapse of the landing gear.

DATES: We must receive comments on this proposed AD by February 13, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Bombardier, Inc./Canadair service information identified in this proposed AD, contact Bombardier, Inc., 400 Côte-Vertu Road West, Dorval, Québec H4S 1Y9, Canada; telephone 514-855-5000; fax 514-855-7401; email thd.crj@aero.bombardier.com; Internet http://www.bombardier.com. For Messier-Dowty service information identified in this proposed AD, contact Messier Services Americas, Customer Support Center, 45360 Severn Way, Sterling, VA 20166-8910; phone: 703-450-8233; fax: 703-404-1621; Internet: https://techpubs.services/messier-dowty.com You may view this referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Andreas Rambalakos, Aerospace Engineer, Airframe and Mechanical Systems Branch, ANE-171, FAA, New York Aircraft Certification Office, 1600 Stewart Avenue, Suite 410, Westbury, NY 11590; telephone (516) 228-7345; fax (516) 794-5531.

SUPPLEMENTARY INFORMATION:

Comments Invited

We invite you to send any written relevant data, views, or arguments about this proposed AD. Send your comments to an address listed under the ADDRESSES section. Include “Docket No. FAA-2013-1065; Directorate Identifier 2011-NM-230-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 11, 2005, we issued AD 2005-15-04, Amendment 39-14193 (70 FR 43032, July 26, 2005). That AD required actions intended to address an unsafe condition on the products listed above.

Since we issued AD 2005-15-04, Amendment 39-14193 (70 FR 43032, July 26, 2005), Transport Canada Civil Aviation (TCCA), which is the airworthiness authority for Canada, has issued Canadian Airworthiness Directives CF-2003-18R2, dated September 28, 2011; CF-2003-20R1, dated September 28, 2011; and CF-2003-21R2, dated September 28, 2011; (referred to after this as the Mandatory Continuing Airworthiness Information, or “the MCAI”) to correct an unsafe condition for the specified products. The MCAI states:

Certain landing gear parts that are listed in the aeroplane model Airworthiness Limitations Section, as safe life items with structural life limits, could be rotable and may not have been serialized, making tracking difficult. This [Canadian airworthiness] directive mandates that such parts be serialized. This [Canadian airworthiness] directive also provides the procedure to determine the number of landings for those parts where the service history cannot be established.

* * * * *

[T]his [Canadian Airworthiness] directive * * * mandate[s] serialization of * * * additional landing gear parts.

This proposed AD would also add airplanes to the applicability. The unsafe condition is using life-limited landing gear parts beyond their safe-life limits, which could lead to collapse of the landing gear. You may examine the MCAI in the AD docket on the Internet at http://www.regulations.gov by searching for and locating it in Docket No. FAA-2013-1065.

Relevant Service Information

Bombardier, Inc. has issued the following service bulletins.

• Bombardier Service Bulletin 600-0710, Revision 03, dated May 9, 2011, including Appendix 1, dated May 9, 2011, and Service Bulletin Information Sheet, dated July 6, 2010 (for Model CL-600-1A11 (CL-600) airplanes).

• Bombardier Service Bulletin 601-0546, Revision 03, dated May 9, 2011, including Appendix 1, dated May 9, 2011, and Service Bulletin Information Sheet, dated July 6, 2010 (for Model CL-600-2A12 (CL-601) airplanes and Model CL-600-2B16 (CL-601-3A and CL-601-3R Variants) airplanes).

• Bombardier Service Bulletin 604-32-014, Revision 02, dated May 9, 2011, including Appendix 1, dated May 9, 2011, and Service Bulletin Information Sheet, dated July 6, 2010 (for Model CL-600-2B16 (CL-604 Variant) airplanes).

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

For Model CL-600-2B16 (CL-604 Variant) airplanes, the MCAI specifies serial numbers 5301 through 5595 inclusive; however, the actions of the MCAI address only serial numbers 5301 through 5573 inclusive, 5579, and 5595. Consequently, we have specified the proposed applicability as serial numbers 5301 to 5573 inclusive, 5579, and 5595. We have coordinated this difference with TCCA.

Costs of Compliance

Based on the service information, we estimate that this proposed AD would affect about 419 products of U.S. registry.

The actions that are required by AD 2005-15-04, Amendment 39-14193 (70 FR 43032, July 26, 2005), and retained in this proposed AD take up to 13 work-hours per product, at an average labor rate of $85 per work hour. Based on these figures, the estimated cost of the currently required actions is $1,105 per product.

We estimate that it would take about 9 work-hours per product to comply with the new basic requirements of this proposed AD. The average labor rate is $85 per work-hour. Based on these figures, we estimate the cost of the proposed AD on U.S. operators to be $320,535, or $765 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-15-04, Amendment 39-14193 (70 FR 43032, July 26, 2005), and adding the following new AD:

Bombardier, Inc.: Docket No. FAA-2013-1065; Directorate Identifier 2011-NM-230-AD.

(a) Comments Due Date

We must receive comments by February 13, 2014.

(b) Affected ADs

This AD supersedes AD 2005-15-04, Amendment 39-14193 (70 FR 43032, July 26, 2005).

(c) Applicability

This AD applies to Bombardier, Inc. airplanes, certificated in any category, as identified in paragraphs (c)(1) through (c)(4) of this AD.

(1) Model CL-600-1A11 (CL-600) airplanes, serial numbers 1004 through 1085 inclusive.

(2) Model CL-600-2A12 (CL-601) airplanes, serial numbers 3001 through 3066 inclusive;

(3) Model CL-600-2B16 (CL-601-3A and CL-601-3R Variants) airplanes, serial numbers 5001 through 5194 inclusive.

(4) Model CL-600-2B16 (CL-604 Variant) airplanes, serial numbers 5301 through 5573 inclusive, 5579, and 5595.

(5) This AD requires revisions to certain operator maintenance documents to include new actions (e.g., inspections). Compliance with these actions is required by 14 CFR 91.403(c). For airplanes that have been previously modified, altered, or repaired in the areas addressed by this AD, the operator may not be able to accomplish the actions described in the revisions. In this situation, to comply with 14 CFR 91.403(c), the operator must request approval for an alternative method of compliance according to paragraph (r) of this AD. The request should include a description of changes to the required actions that will ensure the continued damage tolerance of the affected structure.

(d) Subject

Air Transport Association (ATA) of America Code 32, Landing Gear.

(e) Reason

This AD was prompted by reports that landing gear parts that have safe-life limits but do not have serial numbers or part numbers can be removed from one landing gear and re-installed on another, making tracking difficult. We are issuing this AD to prevent life-limited landing gear parts from being used beyond their safe-life limits, which could lead to collapse of the landing gear.

(f) Compliance

You are responsible for having the actions required by this AD performed within the compliance times specified, unless the actions have already been done.

(g) Retained Requirement To Add Serial Numbers (S/Ns) or Part Numbers (P/Ns)

This paragraph restates the actions required by paragraph (f) of AD 2005-15-04, Amendment 39-14193 (70 FR 43032, July 26, 2005), with revised affected airplanes. Except for Model CL-600-2B16 airplanes having serial numbers 5514 through 5595 inclusive: At the applicable compliance time specified in paragraph (g)(1), (g)(2), or (g)(3) of this AD, add serial numbers and part numbers, as applicable, to the parts identified in the applicable service bulletin specified in paragraph (g)(1), (g)(2), or (g)(3) of this AD. Do all actions in accordance with the applicable service bulletin specified in paragraph (g)(1), (g)(2), or (g)(3) of this AD.

(1) For parts identified in Bombardier Service Bulletin 600-0710, Revision 01, dated December 15, 2003; and Bombardier Service Bulletin 601-0546, Revision 01, dated December 15, 2003; as having a compliance time of “five years for the parts listed in Part A”: Within 60 months after August 30, 2005 (the effective date of AD 2005-15-04, Amendment 39-14193 (70 FR 43032, July 26, 2005)).

(2) For parts identified in Bombardier Service Bulletin 600-0710, Revision 01, dated December 15, 2003; and Bombardier Service Bulletin 601-0546, Revision 01, dated December 15, 2003; as having a compliance time of “ten years for the parts listed in Part B”: Within 120 months after August 30, 2005 (the effective date of AD 2005-15-04, Amendment 39-14193 (70 FR 43032, July 26, 2005)).

(3) For parts identified in Bombardier Service Bulletin 604-32-014, dated May 31, 2002, as having a compliance time of “no later than a calendar time of 8 years”: Within 96 months after August 30, 2005 (the effective date of AD 2005-15-04, Amendment 39-14193 (70 FR 43032, July 26, 2005)).

Note 1 to paragraph (g) of this AD: The Bombardier service bulletins refer to the Messier-Dowty service bulletins in table 1 to paragraph (g) of this AD as additional sources of service information for adding part numbers or serial numbers by vibro-peening the numbers on main landing gear (MLG) and nose landing gear (NLG) components that do not have them; and for determining the number of landings for parts without a part number or serial number on which the time since new (TSN) and cycles since new (CSN) have not been tracked.

Table 1 to Paragraph (g) of This AD—Messier-Dowty Service Bulletins
Messier-Dowty Service Bulletin | Model | Landing gear component | Corresponding Bombardier Service Bulletin(s)
M-DT SB104467009/010-32-1, dated March 19, 2001 | CL-600-1A11 (CL-600), CL-600-2A12 (CL-601) and CL-600-2B16 (CL-601-3A and CL-601-3R) airplanes | MLG side strut retraction actuator eye bolt | 600-0710 and 601-0546.
M-DT SB19090-32-4, dated March 19, 2001 | CL-600-2B16 (CL-604) airplanes | MLG shock strut | 604-32-014.
M-DT SB20020-32-5, dated July 12, 2001 | CL-600-2B16 (CL-604) airplanes | NLG shock strut | 604-32-014.
M-DT SB200814001-32-3, dated March 19, 2001 | CL-600-1A11 (CL-600), CL-600-2A12 (CL-601) and CL-600-2B16 (CL-601-3A and CL-601-3R) airplanes | NLG drag brace hinge pin | 600-0710 and 601-0546.
M-DT SB200922001/2-32-6, dated March 19, 2001 | CL-600-1A11 (CL-600) airplanes | MLG shock strut | 600-0710.
M-DT SB200924003/004-32-16, dated July 12, 2001 | CL-600-1A11 (CL-600) airplanes | NLG shock strut | 600-0710.
M-DT SB6100-32-10, dated March 19, 2001 | CL-600-2A12 (CL-601) and CL-600-2B16 (CL-601-3A and CL-601-3R) airplanes | MLG shock strut pin | 601-0546.
M-DT SB6500-32-1, dated March 19, 2001 | CL-600-1A11 (CL-600), CL-600-2A12 (CL-601) and CL-600-2B16 (CL-601-3A and CL-601-3R) airplanes | MLG side strut retraction actuator | 600-0710 and 601-0546.
M-DT SB7200-32-6, dated March 19, 2001 | CL-600-1A11 (CL-600), CL-600-2A12 (CL-601) and CL-600-2B16 (CL-601-3A and CL-601-3R) airplanes | NLG drag brace hinge pin | 600-0710 and 601-0546.
M-DT SB7300-32-16, dated July 12, 2001 | CL-600-2A12 (CL-601) and CL-600-2B16 (CL-601-3A and CL-601-3R) airplanes | NLG shock strut | 601-0546.

(h) Retained Requirement To Establish the Number of Landings

This paragraph restates the actions required by paragraph (g) of AD 2005-15-04, Amendment 39-14193 (70 FR 43032, July 26, 2005), with revised affected airplanes. Except for Model CL-600-2B16 airplanes having serial numbers 5314 through 5595 inclusive: At the applicable time specified in paragraph (g) of this AD, if a component does not have a serial number and the CSN or TSN were not tracked, use the formula in the applicable Messier-Dowty service bulletin in table 1 to paragraph (g) of this AD to establish the number of landings (TSN or CSN), and record the newly calculated TSN or CSN in the aircraft log books.

(i) Retained Requirement To Revise the Airworthiness Limitations Section (ALS)

This paragraph restates the revision required by paragraph (h) of AD 2005-15-04, Amendment 39-14193 (70 FR 43032, July 26, 2005), with revised affected airplanes. Except for Model CL-600-2B16 airplanes having serial numbers 5514 through 5595 inclusive: Within 30 days after August 30, 2005 (the effective date of AD 2005-15-04), revise the ALS of the applicable Instructions for Continued Airworthiness to reflect the new life limits of the landing gear parts by inserting copies of the Canadair temporary revisions (TR) in table 2 to paragraph (i) of this AD into the ALS of the applicable Canadair Time-Limits/Maintenance Check Manual. When the contents of the TRs are included in the general revisions of the ALS, these TRs may be removed provided the relevant information in the ALS is identical to that in the TRs.

Table 2 to Paragraph (i) of This AD—Canadair Temporary Revisions
Temporary revision | Applicable Canadair Time-Limits/Maintenance Check Manual | Manual section | Model
5-116, dated April 11, 2002 | PSP 605 | 5-10-10 | CL-600-1A11 (CL-600) airplanes.
5-190, dated April 11, 2002 | PSP 601-5 | 5-10-10 | CL-600-2A12 (CL-601) and CL-600-2B16 (CL-601-3A and CL-601-3R) airplanes.
5-191, dated April 11, 2002 | PSP 601-5 | 5-10-11 | CL-600-2A12 (CL-601) and CL-600-2B16 (CL-601-3A and CL-601-3R) airplanes.
5-192, dated April 11, 2002 | PSP 601-5 | 5-10-12 | CL-600-2A12 (CL-601) and CL-600-2B16 (CL-601-3A and CL-601-3R) airplanes.
5-2-6, dated April 11, 2002 | CL-604 | 5-10-10 | CL-600-2B16 (CL-604) airplanes.
5-204, dated April 11, 2002 | PSP 601A-5 | 5-10-10 | CL-600-2A12 (CL-601) and CL-600-2B16 (CL-601-3A and CL-601-3R) airplanes.
5-205, dated April 11, 2002 | PSP 601A-5 | 5-10-11 | CL-600-2A12 (CL-601) and CL-600-2B16 (CL-601-3A and CL-601-3R) airplanes.
5-206, dated April 11, 2002 | PSP 601A-5 | 5-10-12 | CL-600-2A12 (CL-601) and CL-600-2B16 (CL-601-3A and CL-601-3R) airplanes.

(j) Retained Parts Installation Limitation

This paragraph restates the limitations specified in paragraph (i) of AD 2005-15-04, Amendment 39-14193 (70 FR 43032, July 26, 2005), with revised affected airplanes. Except for Model CL-600-2B16 airplanes having serial numbers 5514 through 5595 inclusive: As of August 30, 2005 (the effective date of AD 2005-15-04), no person may install on any airplane a landing gear part, unless it has had the applicable part number or serial number added in accordance with paragraph (g) of this AD; and has had the number of landings established in accordance with paragraph (h) of this AD.

(k) Retained Stipulation of Information of No Reporting

This paragraph restates the stipulation specified in paragraph (j) of AD 2005-15-04, Amendment 39-14193 (70 FR 43032, July 26, 2005). Although the service bulletins identified in paragraph (g) of this AD specify that operators should submit incorporation notices to Bombardier after each new part number or serial number and landings assigned to these parts is added, this AD does not include that action.

(l) New Requirement of This AD: Add Serial Numbers and Part Numbers

(1) For Model CL-600-2B16 (CL-604 Variant) airplanes: Within 96 months after the effective date of this AD, add serial numbers and part numbers, as applicable, to the parts identified in paragraphs (l)(1)(i) and (l)(1)(ii) of this AD, as applicable, in accordance with the Accomplishment Instructions of Bombardier Service Bulletin 604-32-014, Revision 02, dated May 9, 2011, including Appendix 1, dated May 9, 2011, and Service Bulletin Information Sheet, dated July 6, 2010.

(i) For airplanes having serial numbers 5301 through 5513 inclusive: Main fitting/drag stay pin of the NLG having P/N 200811721.

(ii) For airplanes having serial numbers 5301 through 5573 inclusive, 5579, and 5595: NLG crossbeam pins having P/N 200814601 and NLG center hinge pins having P/N 200814624.

(2) For Bombardier Model CL-600-2A12 (CL-601) airplanes and Model CL-600-2B16 (CL-601-3A and CL-601-3R Variants) airplanes: Within 60 months after the effective date of this AD, add serial numbers and part numbers, as applicable, to left and right MLG side strut pins having P/N 6318-1 or 6318-3; and to left and right MLG hinge pins having P/N 6329-3; in accordance with the Accomplishment Instructions of Bombardier Service Bulletin 601-0546, Revision 03, dated May 9, 2011, including Appendix 1, dated May 9, 2011, and Service Bulletin Information Sheet, dated July 6, 2010.

(3) For Bombardier Model CL-600-2A12 (CL-601) airplanes and Model CL-600-2B16 (CL-601-3A and CL-601-3R Variants) airplanes: Within 120 months after the effective date of this AD, add serial numbers and part numbers, as applicable, to NLG main fitting/drag stay pins having P/N 200811721; NLG drag brace pivot pins having P/N 200814601; and left and right MLG pintle pins having P/N 6324-1; in accordance with the Accomplishment Instructions of Bombardier Service Bulletin 601-0546, Revision 03, dated May 9, 2011, including Appendix 1, dated May 9, 2011, and Service Bulletin Information Sheet, dated July 6, 2010.

(4) For Bombardier Model CL-600-1A11 (CL-600) airplanes: Within 120 months after the effective date of this AD, add serial numbers and part numbers, as applicable, to NLG main fitting/drag stay pins having P/N 200811721 and NLG drag brace pivot pins having P/N 200814601, in accordance with the Accomplishment Instructions of Bombardier Service Bulletin 600-0710, Revision 03, dated May 9, 2011, including Appendix 1, dated May 9, 2011, and Service Bulletin Information Sheet, dated July 6, 2010.

(m) New Requirement of This AD: Establish the Number of Landings (CSN)

At the applicable times specified in paragraph (l) of this AD: If a component does not have a serial number and the number of landings (CSN) were not tracked, use the applicable service bulletin specified in paragraph (m)(1), (m)(2), or (m)(3) of this AD to establish the number of landings (CSN).

(1) Appendix 1, dated May 9, 2011, of Bombardier Service Bulletin 604-32-014, Revision 02, dated May 9, 2011, including Service Bulletin Information Sheet, dated July 6, 2010 (for Bombardier Model CL-600-2B16 (CL-604 Variant) airplanes).

(2) Appendix 1, dated May 9, 2011, of Bombardier Service Bulletin 601-0546, Revision 03, dated May 9, 2011, including Service Bulletin Information Sheet, dated July 6, 2010 (for Model CL-600-2A12 (CL-601) airplanes and Model CL-600-2B16 (CL-601-3A and CL-601-3R Variants) airplanes).

(3) Appendix 1, dated May 9, 2011, of Bombardier Service Bulletin 600-0710, Revision 03, dated May 9, 2011, including Service Bulletin Information Sheet, dated July 6, 2010 (for Bombardier Model CL-600-1A11 (CL-600) airplanes).

(n) New Requirement of This AD: Records Update

Concurrently with the actions specified in paragraphs (l) and (m) of this AD: Record any newly calculated number of landings (CSN), new part numbers, and new serial numbers in the airplane technical records and manuals.

(o) New Requirement of This AD: Parts Installation Limitation

As of the effective date of this AD, no person may install on any airplane a landing gear part identified in paragraph (l) of this AD, unless it has had the applicable part number or serial number added as required by paragraph (l) of this AD, and had the number of landings (CSN) established as required by paragraph (m) of this AD.

(p) New Action of This AD: Optional Method of Compliance

Accomplishing the action required by paragraph (g) of this AD, in accordance with the Accomplishment Instructions of the applicable service bulletin specified in paragraph (p)(1), (p)(2), or (p)(3) of this AD, is acceptable for compliance with the requirements of paragraph (g) of this AD.

(1) Bombardier Service Bulletin 601-0546, Revision 03, dated May 9, 2011, including Appendix 1, dated May 9, 2011, and Service Bulletin Information Sheet, dated July 6, 2010 (for Model CL-600-2A12 (CL-601) airplanes and Model CL-600-2B16 (CL-601-3A and CL-601-3R Variants) airplanes).

(2) Bombardier Service Bulletin 604-32-014, Revision 02, dated May 9, 2011, including Appendix 1, dated May 9, 2011, and Service Bulletin Information Sheet, dated July 6, 2010 (for Model CL-600-2B16 (CL-604 Variant) airplanes).

(3) Bombardier Service Bulletin 600-0710, Revision 03, dated May 9, 2011, including Appendix 1, dated May 9, 2011, and Service Bulletin Information Sheet, dated July 6, 2010 (for Model CL-600-1A11 (CL-600) airplanes).

(q) Credit for Previous Actions

(1) This paragraph provides credit for the actions required by paragraph (g) of this AD, if those actions were performed before August 30, 2005 (the effective date of AD 2005-15-04, Amendment 39-14193 (70 FR 43032, July 26, 2005)), using the applicable service bulletin specified in paragraph (q)(1)(i), (q)(1)(ii), or (q)(1)(iii) of this AD, which are not incorporated by reference in this AD.

(i) Bombardier Service Bulletin 601-0546, dated May 31, 2002 (for Model CL-600-2A12 (CL-601) airplanes and Model CL-600-2B16 (CL-601-3A and CL-601-3R Variants) airplanes).

(ii) Bombardier Service Bulletin 600-0710, dated May 31, 2002 (for Model CL-600-1A11 (CL-600) airplanes).

(iii) Bombardier Service Bulletin 604-32-014, dated May 31, 2002 (for Model CL-600-2B16 (CL-604 Variant) airplanes).

(2) This paragraph provides credit for the addition of serial numbers and part numbers required by paragraph (l) of this AD, if those actions were performed before the effective date of this AD using the applicable service bulletin specified in paragraph (q)(2)(i), (q)(2)(ii), or (q)(2)(iii) of this AD, which are not incorporated by reference in this AD.

(i) Bombardier Service Bulletin 604-32-014, Revision 01, dated October 29, 2007 (for Bombardier Model CL-600-2B16 (CL-604 Variant) airplanes).

(ii) Bombardier Service Bulletin 601-0546, Revision 02, dated October 29, 2007 (for Model CL-600-2A12 (CL-601) airplanes and Model CL-600-2B16 (CL-601-3A and CL-601-3R Variants) airplanes).

(iii) Bombardier Service Bulletin 600-0710, Revision 02, dated October 29, 2007 (for Bombardier Model CL-600-1A11 (CL-600) airplanes).

(3) This paragraph provides credit for the establishment of the number of landings (CSN) required by paragraph (m) of this AD, if those actions were performed before the effective date of this AD using the applicable service bulletin information sheet specified in paragraph (q)(3)(i), (q)(3)(ii), or (q)(3)(iii) of this AD.

(i) Service Bulletin Information Sheet, dated July 6, 2010, of Bombardier Service Bulletin 604-32-014 (for Bombardier Model CL-600-2B16 (CL-604 Variant) airplanes).

(ii) Service Bulletin Information Sheet, dated July 6, 2010, of Bombardier Service Bulletin 601-0546 (for Bombardier Model CL-600-2A12 (CL-601) and Model CL-600-2B16 (CL-601-3A and CL-601-3R Variants) airplanes).

(iii) Service Bulletin Information Sheet, dated July 6, 2010 of Bombardier Service Bulletin 600-0710 (for Bombardier Model CL-600-1A11 (CL-600) airplanes).

(r) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD. AMOCs approved previously in accordance with AD 2005-15-04, Amendment 39-14193 (70 FR 43032, July 26, 2005), are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(s) Related Information

(1) Refer to the Mandatory Continuing Airworthiness Information Canadian Airworthiness Directives specified in paragraphs (s)(1)(i), (s)(1)(ii), and (s)(1)(iii) of this AD for related information. These MCAIs may be found in the AD docket on the Internet at http://www.regulations.gov by searching for and locating it in Docket No. FAA-2013-1065.

(i) Canadian Airworthiness Directive CF-2003-18R2, dated September 28, 2011.

(ii) Canadian Airworthiness Directive CF-2003-20R1, dated September 28, 2011.

(iii) Canadian Airworthiness Directive CF-2003-21R2, dated September 28, 2011.

(2) For Bombardier, Inc./Canadair service information identified in this proposed AD, contact Bombardier, Inc., 400 Côte-Vertu Road West, Dorval, Québec H4S 1Y9, Canada; telephone 514-855-5000; fax 514-855-7401; email thd.crj@aero.bombardier.com; Internet http://www.bombardier.com. For Messier-Dowty service information identified in this proposed AD, contact Messier Services Americas, Customer Support Center, 45360 Severn Way, Sterling, VA 20166-8910. You may view this service information at the FAA, Transport Airplane Directorate, 1601 Lind Avenue SW., Renton, WA. For information on the availability of this material at the FAA, call 425-227-1221.

Issued in Renton, Washington, on December 19, 2013.
Jeffrey E. Duven,
Manager, Transport Airplane Directorate, Aircraft Certification Service.

[FR Doc. 2013-31185 Filed 12-27-13; 8:45 am]

BILLING CODE 4910-13-P